DEPARTMENT OF COMMERCE

National Oceanic and Atmospheric Administration

[I.D. 032204D]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its Pelagics Plan Team (PPT) and its Bottomfish Plan Team (BPT) in Honolulu, HI to discuss fishery issues and develop recommendations for future management.

DATES: The meeting of the PPT will be held on April 27-29, 2004 and BPT meeting on May 4-6, 2004. Both meetings will be held from 8:30 a.m. to 5 p.m. each day.

ADDRESSES: The meetings will be held at the Council Office Conference Room, Western Pacific Fishery Management Council, 1164 Bishop St., Suite 1400, Honolulu, HI 96813; telephone: 808-522-8220.

FOR FURTHER INFORMATION CONTACT: Kitty M. Simonds, Executive Director; telephone: 808-522-8220.

SUPPLEMENTARY INFORMATION: The PPT will meet on April 27-29, 2004, at the Council Conference Room to discuss the following agenda items:

Tuesday, April 27, 2004, 8:30 a.m.

1. Introduction

2. Annual Report review

a. Review 2002 Annual Report modules and recommendations

b. 2002 Annual Report region-wide recommendations

Wednesday and Thursday, April 28-29, 2004, 8:30 a.m.

3. Format of the Recreational Module and other annual report changes

4. Blue marlin catch-per-unit-effort (CPUE) analysis

5. Localized depletions of pelagic stocks

6. Magnuson-Stevens Fishery Conservation and Management Act (MSFCMA) National Standard 1 revisions

7. Planned NOAA-Fisheries longline fishery research in American Samoa

8. Private fish aggregating devices (FADs) in Hawaii

9. Other business

The BPT will meet on May 4-6, 2004, at the Council Conference Room to discuss the following agenda items:

Tuesday, May 4, 2004, 8:30 a.m.

1. Introduction

2. Annual Report review

a. Review 2002 Annual Report modules and recommendations

b. 2002 Annual Report region-wide recommendations

Wednesday, May 5, 2004, 8:30 a.m.

3. Overfishing control rule

a. Report on Dunedin Deep-slope fishery Workshop

b. Status of new control rules

c. Report on Stock Assessment Workshop and review of Recommendations

d. Federal fishery data collection program

4. Archepelagic Ecosystem-based management plan

5. Commonwealth of the Northern Mariana Islands (CNMI) bottomfish fishery management

Thursday, May 6, 2004, 8:30 a.m.

6. Hawaii Bottomfish management

a. National Ocean Service (NOS) Northwestern Hawaiian Islands (NWHI) Sanctuary Designation Process

b. NWHI bottomfish observer coverage

c. Status of State of Hawaii Main Hawaiian Islands (MHI) bottomfish program

7. Essential Fish Habitat and Habitat of Particular Concern

8. Program Planning

a. Council 3-5 year plan

b. Regional Strategic Plan

9. Other Business

The order in which the agenda items are addressed may change. The PPT and BPT will meet as late as necessary to complete scheduled business.

Although non-emergency issues not contained in this agenda may come before the PPT and BPT for discussion, those issues may not be the subject of formal action during these meetings. Plan Team action will be restricted to those issues specifically listed in this document and any issue arising after publication of this document that requires emergency action under section 305(c) of the Magnuson-Stevens Fishery Conservation and Management Act, provided the public has been notified of the Council's intent to take final action to address the emergency.

Special Accommodations

These meetings are physically accessible to people with disabilities. Requests for sign language interpretation or other auxiliary aids should be directed to Kitty M. Simonds, 808-522-8220 (voice) or 808-522-8226 (fax), at least 5 days prior to the meeting date.

Dated: March 31, 2004.
Alan D. Risenhoover,
Acting Director, Office of Sustainable Fisheries, National Marine Fisheries Service.

[FR Doc. E4-762 Filed 4-5-04; 8:45 am]

BILLING CODE 3510-22-S